DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Coastal and Estuarine Land Conservation, Planning, Protection, or Restoration.

OMB Control Number: 0648-0459.

Form Number(s): None.

Type of Request: Regular (extension of a currently approved information collection).

Number of Respondents: 51.

Average Hours per Response:: CELCP Plans, 120 hours to develop, 35 hours to revise or update; project application and checklist, 20 hours; semi-annual and annual reporting, 5 hours each.

Burden Hours: 1,410.

Needs and Uses: This request is for extension of a currently approved information collection.

NOAA has, or is given, authority under the Coastal Zone Management Act (CZMA), annual appropriations or other authorities, to issue funds to coastal states, localities or other recipients for planning, conservation, acquisition, protection, restoration, or construction projects. The required information enables NOAA to implement the CELCP, under its current or future authorization, and facilitate the review of similar projects under different, but related, authorities.

This includes projects funded through:

• The Coastal and Estuarine Land Conservation Program (CZMA Section 307A) to protect important coastal and estuarine areas that have significant conservation, recreation, ecological, historical, or aesthetic values, or that are threatened by conversion, and procedures for eligible applicants who choose to participate in the program to use when developing state conservation plans, proposing or soliciting projects under this program, applying for funds, and carrying out projects under this program in a manner that is consistent with the purposes of the program pursuant to program guidelines which can be found on NOAA's website at: www.coast.noaa.gov/czm/landconservation/ or may be obtained upon request via the contact information listed above;

• the National Estuarine Research Reserve System (CZMA Section 315) Land Acquisition and Construction program;

• the Coastal Zone Management Program's low-cost acquisition and construction program (CZMA Section 306A); or the

• Fish and Wildlife Coordination Act.

Affected Public: State, local or tribal government; not-for-profit institutions.

Frequency: One time and semi-annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 19, 2018.
Sarah Brabson,
NOAA PRA Clearance Officer.

[FR Doc. 2018-25488 Filed 11-21-18; 8:45 am]

BILLING CODE 3510-08-P